DEPARTMENT OF HEALTH AND HUMAN SERVICES

Health Resources and Services Administration

Notice of Award of President's Emergency Plan for AIDS Relief (PEPFAR) Funding To Strengthen Health Workforce Efforts in the Democratic Republic of Congo (DRC)

AGENCY: Health Resources and Services Administration (HRSA), Department of Health and Human Services.

ACTION: Notice of award.

SUMMARY: HRSA will award $2 million in PEPFAR funding for work in DRC to strengthen pre-service education primarily focusing on nursing and midwifery competencies through student clinical rotations and community health work.

FOR FURTHER INFORMATION CONTACT: Carla Haddad, Director, Office of Global Health, HRSA, chaddad@hrsa.gov and (301) 443-4551.

SUPPLEMENTARY INFORMATION:

Intended Recipient of the Award: Johns Hopkins Program for International Education in Gynecology and Obstetrics (JHPIEGO) Global Reach II Program UH6OA45170.

Amount of Awards: Two awards, $400,000 for Q4 FY2023 and $1,600,000 for Q1-Q4 FY 2024, totaling $2,000,000.

Project Period: July 1, 2023-September 30, 2024.

CFDA Number: 93.266.

Award Instrument: Cooperative Agreement Supplement.

Authority: Public Law 108-25 (the United States Leadership Against HIV/AIDS, Tuberculosis and Malaria Act of 2003) [22 U.S.C. 7601 et seq.], Public Law 110-293 and Public Law 113-56.

Table 1—Recipients and Award Amounts
Grant No. | Award recipient name | Country | Award amount
UH6OA45170 | JHPIEGO Global Reach II | DRC | $400,000
UH6OA45170 | JHPIEGO Global Reach II | DRC | 1,600,000

Justification: DRC continues to face severe shortages of nurses and nurse-midwives for HIV prevention, care and treatment and essential health services, and this award is critical for HIV epidemic control and health security in DRC. The recipient is implementing similar efforts to strengthen the health workforce in other countries (Uganda, Ethiopia, and Zambia) with strong progress and outcomes.

Carole Johnson,
Administrator.

[FR Doc. 2023-18001 Filed 8-21-23; 8:45 am]

BILLING CODE 4165-15-P